DEPARTMENT OF HEALTH AND HUMAN SERVICES

Centers for Disease Control and Prevention

[60Day-15-0931]

Proposed Data Collections Submitted for Public Comment and Recommendations

The Centers for Disease Control and Prevention (CDC), as part of its continuing effort to reduce public burden, invites the general public and other Federal agencies to take this opportunity to comment on proposed and/or continuing information collections, as required by the Paperwork Reduction Act of 1995. To request more information on the below proposed project or to obtain a copy of the information collection plan and instruments, call 404-639-7570 or send comments to Leroy A. Richardson, 1600 Clifton Road, MS-D74, Atlanta, GA 30333 or send an email to omb@cdc.gov.

Comments submitted in response to this notice will be summarized and/or included in the request for Office of Management and Budget (OMB) approval. Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information. Written comments should be received within 60 days of this notice.

Proposed Project

Healthy Homes and Lead Poisoning Surveillance System (HHLPSS) (OMB No. 0920-0931, expires 04/30/2015)—Extension—National Center for Environmental Health (NCEH), Centers for Disease Control and Prevention (CDC).

Background and Brief Description

The overarching goal of the Healthy Homes and Lead Poisoning Surveillance System (HHLPSS) is to support healthy homes surveillance activities at the state and national levels. CDC is requesting a three-year extension of Office of Management and Budget (OMB) approval for up to 40 state and local Healthy Homes Childhood Lead Poisoning Prevention Programs (CLPPP) and the state-based Adult Blood Lead Epidemiology and Surveillance (ABLES) programs. The programs will report information (e.g., presence of lead paint, age of housing, occupation of adults and type of housing) to the CDC. They will use the system as designed.

Over the last three years, 7 states have adopted the HHLPPS and 13 are in beta-testing. In October 2014, CDC began funding 40 state and local blood lead surveillance programs. Many of these programs and their subcontractors at the local level will come on line with HHLPSS in the next year.

The objectives for this surveillance system are two-fold. First, the HHLPSS allows CDC to systematically track how the state and local programs conduct case management and follow-up of residents with housing-related health outcomes. Second, the system allows for identification and collection of information on other housing-related risk factors. Childhood and adult lead poisoning is just one of many adverse health conditions that are related to common housing deficiencies. Multiple hazards in housing (e.g., mold, vermin, radon and the lack of safety devices) continue to adversely affect the health of residents. HHLPSS offers a coordinated, comprehensive, and systematic public health approach to eliminate multiple housing-related health hazards.

HHLPSS enables flexibility to evaluate housing where the risk for lead poisoning is high, regardless of whether children less than 6 years of age currently reside there. Thus HHLPSS supports CDC efforts for primary prevention of childhood and adult lead poisoning. Over the past several decades there has been a remarkable reduction in environmental sources of lead, improved protection from occupational lead exposure, and an overall decreasing trend in the prevalence of elevated blood lead levels (BLLs) in U.S. adults. As a result, the U.S. national BLL geometric mean among adults was 1.2 μg/dL during 2009-2010. Nonetheless, lead exposures continue to occur at unacceptable levels. Current research continues to find that BLLs previously considered harmless can have harmful effects in adults, such as decreased renal function and increased risk for hypertension and essential tremor at BLLs <10 μg/dL.

There is no cost to respondents other than their time. The total estimated annual burden hours is 640.

Estimated Annualized Burden Hours
Type of respondent | Form name | Number of respondents | Number of responses per respondent | Average burden per response (in hours) | Total burden hours
State, Local, and Territorial Health Departments | Healthy Homes and Lead Poisoning Surveillance System (HHLPSS) Variables | 40 | 4 | 4 | 640
Total |  |  |  |  | 640

Leroy A. Richardson,
Chief, Information Collection Review Office, Office of Scientific Integrity, Office of the Associate Director for Science, Office of the Director, Centers for Disease Control and Prevention.

[FR Doc. 2014-26355 Filed 11-5-14; 8:45 am]

BILLING CODE 4163-18-P